DEPARTMENT OF LABOR

Employment and Training Administration

[TA-W-65,908]

DJ Fashions, LLC, New York, NY; Notice of Termination of Investigation

Pursuant to Section 221 of the Trade Act of 1974, as amended, an investigation was initiated on May 11, 2009 in response to a petition filed by a company official on behalf of the workers at DJ Fashions, LLC, New York, New York.

The petitioner has requested that the petition be withdrawn. Consequently, the investigation has been terminated.

Signed at Washington, DC, this 19th day of May 2009.
Richard Church,
Certifying Officer, Division of Trade Adjustment Assistance.

[FR Doc. E9-15216 Filed 6-26-09; 8:45 am]

BILLING CODE 4510-FN-P